FEDERAL COMMUNICATIONS COMMISSION

[Report No. AUC-00-37-G (Auction No. 37); DA 01-619]

Auction for FM Broadcast Construction Permits Postponed Until December 5, 2001; Freeze on FM Minor Change Applications Lifted

AGENCY: Federal Communications Commission.

ACTION: Notice.

SUMMARY: This document announces the postponement of Broadcast Auction 37 and the lifting of the freeze on FM minor change applications.

DATES: Auction No. 37 is rescheduled for December 5, 2001.

FOR FURTHER INFORMATION: Auction and Industry Analysis Division: Kathy Garland, Wireless Telecommunications Bureau at (717) 338-2888; Kenneth Burnley, Legal Branch at (202) 418-0660. Audio Services Division: Lisa Scanlan at (202) 418-2700.

SUPPLEMENTARY INFORMATION: This is a summary of a Public Notice released March 7, 2001. The complete text of the public notice is available for inspection and copying during normal business hours in the FCC Reference Center (Room CY-A257), 445 12th Street, SW., Washington, DC. It may also be purchased from the Commission's copy contractor, International Transcription Services, Inc. (ITS, Inc.), 1231 20th Street, N.W., Washington, DC 20036, (202) 857-3800. It is also available on the Commission's web site at http://www.fcc.gov.

General Information

The Wireless Telecommunications Bureau and the Mass Media Bureau (collectively referred to as the “Bureaus”) announce that the upcoming auction of vacant non-reserved band allotments in the FM broadcast service, scheduled to begin on May 9, 2001, is postponed until December 5, 2001, for reasons of administrative convenience. Except for the dates listed, the information provided in previous public notices remains unchanged. (See “Auction Notice and Filing Requirements for FM Broadcast Construction Permits; Auction Rescheduled from February 21, 2001 to May 9, 2001; Minimum Opening Bids and Other Procedural Issues,” 66 FR 8961 (February 5, 2001)).

The new schedule is as follows:

Start Date for Submission of FCC Form 175—September 24, 2001

FCC Form 175 Filing Deadline—October 5, 2001

Upfront Payments—November 5, 2001

Mock Auction—December 3, 2001

Auction Begins—December 5, 2001

As a result of this action, the FM Minor Change Application Freeze Public Notice announced on January 19, 2001, (not published in the Federal Register) and scheduled to be effective from March 7, 2001 to March 19, 2001, is no longer necessary, and is lifted. The temporary freeze on minor change applications was designed to ensure that conflicts do not occur between minor change and preferred auction site proposals, a result that could add uncertainty and delay to the auction process. The freeze also applied to reserved band minor change applications because conflicts between such applications and preferred site coordinates are also possible.

Federal Communications Commission.
Lisa Scanlan,
Supervisory Attorney, Audio Services Division, Mass Media Bureau.

[FR Doc. 01-6693 Filed 3-16-01; 8:45 am]

BILLING CODE 6712-01-U